ENVIRONMENTAL PROTECTION AGENCY

[FRL-7155-5]

Agency Information Collection Activities; OMB Responses

AGENCY: Environmental Protection Agency (EPA).

ACTION: Notices.

SUMMARY: This document announces the Office of Management and Budget's (OMB) responses to Agency clearance request, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby at 260-4901, or email at Auby.susan@epa.gov. and please refer to the appropriate EPA Information Collection Request (ICR) Number.

SUPPLEMENTARY INFORMATION:

OMB Responses to Agency Clearance Requests

OMB Approvals

EPA ICR No. 1860.02; Assessment of Compliance Assistance Projects; was approved 02/13/2002; OMB No. 2020-0015; expires 02/28/2005.

EPA ICR No. 0559.07; Application for Reference and Equivalent Method Determination; was approved 02/15/2002; OMB No. 2080-0005; expires 02/28/2005.

EPA No. 1591.14; Regulation of Fuels and Fuel Additives: Reformulated Gasoline Terminal Receipt Date; was approved 02/22/2002; OMB No. 2060-0277; expires 04/30/2004.

EPA No. 2015.01, Certification in Lieu of Chloroform Minimum Monitoring Requiring for Direct and Indirect Discharging Mills in the Bleached Papergrade Kraft and Soda Subcategory of the Public, Paper; was approved 02/15/2002; OMB No. 2020-0242; expires 02/28/2005.

EPA No. 1878.01; Minimum Monitoring Requirements for Direct and Indirect Discharging Mills in the Bleached Papergrade Kraft and Soda Subcategory and the Papergrade Sulfite Subcategory of the Pulp, Paper, was approved 02/25/2002; OMB No. 2020-0243; expires 02/28/2005.

Short Term Extensions

EPA ICR No. 0783.40; Motor Vehicle Emission Standards and Emission Credits Provisions; in 40 CFR parts 86 and 600; OMB No. 2060-0104; on 02/13/2002 OMB extended the expiration date through 03/31/2002.

Comment Filed

EPA ICR No. 1648.03, Control Technology Determination for Equivalent Emission Limitations by Permit; OMB No. 2060-0266; on 02/11/2002 OMB filed comment.

Dated: February 28, 2002.
Oscar Morales,
Director, Collection Strategies Division.

[FR Doc. 02-5741 Filed 3-8-02; 8:45 am]

BILLING CODE 6560-50-M